DEPARTMENT OF COMMERCE

National Oceanic and Atmospheric Administration

RIN 0648-XA713

Endangered Species; File No. 16436-01

AGENCY: National Marine Fisheries Service (NMFS), National Oceanic and Atmospheric Administration (NOAA), Commerce.

ACTION: Issuance of a permit modification and termination of a permit.

SUMMARY: Notice is hereby given that the New York State Department of Environmental Conservation, 21 South Putt Corners Road, New Paltz, NY 12561 [Kathryn Hattala: Responsible Party], has been issued a permit modification (Permit No. 16436-01) to take to take Atlantic sturgeon (Acipenser oxyrinchus oxyrinchus) and shortnose sturgeon (Acipenser brevirostrum) for purposes of scientific research. Additionally, Permit No. 16439, issued to the same Permit Holder for study of shortnose sturgeon, is hereby terminated.

ADDRESSES: The permit modification and related documents are available for review upon written request or by appointment in the following office:

Permits, Conservation and Education Division, Office of Protected Resources, NMFS, 1315 East-West Highway, Room 13705, Silver Spring, MD 20910; phone (301) 427-8401; fax (301) 713-0376.

FOR FURTHER INFORMATION CONTACT: Malcolm Mohead, (301) 427-8401.

SUPPLEMENTARY INFORMATION: Permit No. 16436 was issued April 6, 2012 (77 FR 21754) to the Permit Holder to capture Atlantic sturgeon life stages in the Hudson River estuary to assess juvenile abundance, characterize the adult spawning stock, and generate population estimates. Atlantic sturgeon were authorized captured with gill nets, trammel nets, and trawls; measured, weighed, tissue sampled, fin clipped for aging, PIT tagged and Floy tagged, internally and externally acoustic tagged, anesthetized with 150 ppm MS-222, and gastric lavaged.

The permit modification (Permit No. 16436-01) now consolidates takes of shortnose sturgeon issued in Permit No 16439 with those Atlantic sturgeon authorized in Permit No. 16436. Permit No. 16439 was terminated upon issuance of the modification. The takes of both Atlantic and shortnose sturgeon were increased in the modification to meet further objectives, including understanding impacts on each species from (1) construction of the Tappan Zee Bridge; (2) laying high voltage cable in the Hudson River; and (3) measuring contaminants levels in the Hudson River. New methods authorized in the modification include contaminant research sampling by performing laparoscopic liver biopsy, and anesthetizing animals with 250 mg/l MS-222 and electro-narcosis. A total of three incidental mortalities of shortnose and Atlantic sturgeon are now authorized annually as a result of increased research activity. The modification would be valid through the original expiration date of Permit No. 16436 on April 5, 2017.

Issuance of this permit modification, as required by the ESA, was based on a finding that such permit (1) was applied for in good faith; (2) will not operate to the disadvantage of such endangered or threatened species; and (3) is consistent with the purposes and policies set forth in section 2 of the ESA.

Dated: July 30, 2014.
Julia Harrison,
Chief, Permits and Conservation Division, Office of Protected Resources, National Marine Fisheries Service.

[FR Doc. 2014-18334 Filed 8-1-14; 8:45 am]

BILLING CODE 3510-22-P